ENVIRONMENTAL PROTECTION AGENCY

[EPA-R08-OW-2015-0346; FRL-9940-34-Region 8]

Issuance of NPDES General Permits for Wastewater Lagoon Systems Located in Indian Country in Region 8

AGENCY: Environmental Protection Agency (EPA).

ACTION: Notice of issuance of NPDES general permits under the authority of Section 402 of the Clean Water Act.

SUMMARY: The Environmental Protection Agency (EPA) Region 8 is hereby giving notice of its issuance of six National Pollutant Discharge Elimination System (NPDES) lagoon general permits for wastewater lagoon systems located in Indian country in Region 8 (CO, MT, ND, SD, UT, & WY). These general permits are similar to the existing permits and will authorize the discharge of wastewater from lagoons located in Region 8 Indian country in accordance with the terms and conditions described therein.

DATES: The general permits become effective on January 1, 2016 and will expire five years from that date. For purposes of seeking review of this permit pursuant to 40 CFR 124.19(o) and 33 U.S.C. 1369(b)(1), the 120 day time period for appeal to the federal court will begin on January 1, 2016.

FOR FURTHER INFORMATION CONTACT: Additional information concerning the final permits may be obtained from VelRey Lozano, EPA Region 8, Wastewater Unit (8P-W-WW), 1595 Wynkoop Street, Denver, CO 80202-1129, telephone 303-312-6128 or email at lozano.velrey@epa.gov.

The administrative record is available by appointment for review and copying, fee for copies may be required, at the EPA Region 8 offices during the hours of 10:00 a.m. to 4:00 p.m. Monday through Friday, Federal holidays excluded. The final general permits, the fact sheet, and additional information may be downloaded from the EPA Region 8 Web page at http://www2.epa.gov/region8/npdes-permits-document-download. Please allow one week after date of this publication for items to be uploaded to the Web page.

SUPPLEMENTARY INFORMATION: Proposed issuance of the general permits was published in the Federal Register on June 30, 2015, 80 FR 37255. The public comment period closed on July 30, 2015. A summary of comments received and Region 8's response to the comments are given in a separate document, “Response to Comments Received During the 2015 Public Notice of Draft NPDES General Permits for Wastewater Lagoon Systems Located in Indian country”.

These permits authorize the discharge of wastewater in accordance with the terms and conditions described therein. The fact sheet for the permits is provide for downloading concurrently with the permits and provides detailed information on: The decisions used to set limitations; the specific geographic areas covered by the permits; information on monitoring schedules; inspection requirements, and other regulatory decisions or requirements.

Issuance of the general permits covers discharges from wastewater lagoon systems located in Indian country in Region 8. The general permits are grouped geographically by state, with the permit coverage being for specified Indian reservations located within a state boundary [specific permit coverage areas below]; any land held in trust by the United States for an Indian tribe; and any other areas which are Indian country within the meaning of 18 U.S.C. 1151.

Colorado: The COG587### permit covers the Southern Ute and the Ute Mountain Reservations, including those portions of the Reservation located in New Mexico and Utah.

Montana: MTG589### This permit covers the Blackfeet Indian Reservation of Montana; the Crow Indian Reservation; the Flathead Reservation; the Fort Belknap Reservation of Montana; the Fort Peck Indian Reservation; the Northern Cheyenne Indian Reservation; and the Rocky Boy's Reservation.

North Dakota: NDG589### This permit covers the Fort Berthold Reservation; the Spirit Lake Indian Reservation; the Standing Rock Sioux Reservation; and the Turtle Mountain Reservation.

This permit includes that portion of the Standing Rock Sioux Reservation and associated Indian country located within the State of South Dakota. It does not include any land held in trust by the United States for the Sisseton-Wahpeton Oyate or any other Indian country associated with that Tribe, which is covered under general permit SDG589###.

South Dakota: SDG589### This permit covers the Cheyenne River Reservation; Crow Creek Reservation; the Flandreau Santee Sioux Indian Reservation; the Lower Brule Reservation; the Pine Ridge Reservation (including the entire Reservation, which is located in both South Dakota and Nebraska); the Rosebud Sioux Indian Reservation; and the Yankton Sioux Reservation.

This permit includes any land in the State of North Dakota that is held in trust by the United States for the Sisseton-Wahpeton Oyate or any other Indian country associated with that Tribe. It does not include the Standing Rock Sioux Reservation or any associated Indian country, which is covered under general permit NDG589###.

Utah: UTG589### This permit covers the Northwestern Band of Shoshoni Nation of Utah Reservation (Washakie); the Paiute Indian Tribe of Utah Reservation; the Skull Valley Indian Reservation; and Indian country lands within the Uintah & Ouray Reservation. It does not include any portions of the Navajo Nation or the Goshute Reservation.

Wyoming: WYG589### This permit covers the Wind River Reservation.

Coverage under the general permits is limited to lagoon systems treating primarily domestic wastewater and includes two categories of coverage; discharging lagoons, and lagoons expected to have no discharge. The effluent limitations for discharging lagoons are based on the Federal Secondary Treatment Regulation (40 CFR part 133) and best professional judgement. The fact sheet also addresses situations in which more stringent and/or additional effluent limitations are determined necessary to comply with applicable water quality standards. Lagoon systems under the no discharge category are required to have no discharge except in accordance with the bypass provisions of the permit. Self-monitoring requirements and routine inspection requirements are included in the permits.

Where the Tribes have Clean Water Act § 401(a)(1) certification authority; Blackfeet Indian Reservation, Flathead Indian Reservation, the Fort Peck Indian Reservation, Northern Cheyenne Indian Reservation, and the Ute Mountain Indian Reservation; EPA has requested certification that the permits comply with the applicable provisions of the CWA and tribal water quality standards.

Other Legal Requirements

Economic Impact (Executive Order 12866): EPA has determined that the issuance of this general permit is not a “significant regulatory action” under the terms of Executive Order 12866 (58 FR 51735 (October 4, 1993)) and is therefore not subject to formal OMB review prior to proposal.

Paperwork Reduction Act: EPA has reviewed the requirements imposed on regulated facilities in these proposed general permits under the Paperwork Reduction Act of 1980, 44 U.S.C. 501, et seq. The information collection requirements of these permits have already been approved by the Office of Management and Budget in submissions made for the NPDES permit program under the provisions of the Clean Water Act.

Regulatory Flexibility Act (RFA): 5 U.S.C. 601 et seq., as amended by the Small Business Regulatory Enforcement Fairness Act (SBREFA): The RFA requires that the EPA prepare a regulatory flexibility analysis for rules subject to the requirements of 5 U.S.C. 553(b) that have a significant impact on a substantial number of small entities. The permits proposed today, however, are not a “rule” subject to the requirements of 5 U.S.C. 553(b) and is therefore not subject to the RFA.

Unfunded Mandates Reform Act: Section 201 of the Unfunded Mandates Reform Act (UMRA), Public Law 104-4, generally requires Federal agencies to assess the effects of their “regulatory actions” defined to be the same as “rules” subject to the Regulatory Flexibility Act (RFA)) on tribal, state, local governments and the private sector. The permit proposed today, however, is not a rule and is therefore not subject to the requirements of the UMRA.

Authority: Clean Water Act, 33 U.S.C. 1251, et seq.

Dated: December 3, 2015.
Darcy O'Connor,
Acting Assistant Regional Administrator, Office of Partnerships and Regulatory Assistance.

[FR Doc. 2015-31916 Filed 12-17-15; 8:45 am]

BILLING CODE 6560-50-P